DEPARTMENT OF ENERGY

Federal Energy Regulatory Commission

[Docket No. AD16-16-000]

Implementation Issues Under the Public Utility Regulatory Policies Act of 1978; Notice of Technical Conference

Take notice that the Federal Energy Regulatory Commission plans to hold a technical conference in the above-captioned docket on implementation issues under the Public Utility Regulatory Policies Act of 1978, 16 U.S.C. 796(17)-(18), 824a-3 (2012) (PURPA). The technical conference will take place on June 29, 2016. The conference will be held at the Federal Energy Regulatory Commission, 888 First Street NE., Washington, DC 20426. The technical conference will bewebcast and transcribed.

Further information concerning topics and speakers, as well as matters relevant to the organization of the technical conference, will be provided at a later date in supplemental notices.

Dated: February 9, 2016.
Nathaniel J. Davis, Sr.,
Deputy Secretary.

[FR Doc. 2016-03016 Filed 2-12-16; 8:45 am]

BILLING CODE 6717-01-P